DEPARTMENT OF STATE

[Public Notice 5803]

Shipping Coordinating Committee; Notice of Meeting

The Shipping Coordinating Committee (SHC) will conduct an open meeting at 9:30 a.m. on Thursday, June 28, 2007, in room 6103, at U.S. Coast Guard Headquarters, 2100 2nd Street SW., Washington, DC. The purpose of the meeting is to prepare for the 53rd session of the Subcommittee on Safety of Navigation (NAV) of the International Maritime Organization (IMO) which is scheduled for July 23 through 27, to be held at the Royal Horticultural Halls and Conference Centre, 81 Vincent Square, London, England.

Items of principal interest on the agenda are:

— Routing of ships, ship reporting and related matters.

— Revision of the performance standards for integrated navigation systems (INS) and integrated bridge systems (IBS).

— Evaluation of the use of Electronic Chart Display and Information System (ECDIS) and Electronic Navigational Chart (ENC) development.

— Carriage requirements for a bridge navigational watch alarm system.

— Development of guidelines for the installation of shipborne radar equipment.

— Amendments to the International Regulations for Preventing Collisions at Sea (COLREGS) Annex I related to color specification of light.

— International Telecommunication Union (ITU) matters, including Radiocommunication ITU-R Study Group 8.

— Guidelines for the control of ships in an emergency.

— Development of performance standards for navigation lights, navigation light controllers and associated equipment.

— Worldwide radio navigation system (WWRNS).

— Development of an e-navigation strategy.

— Development of carriage requirements for ECDIS.

— Guidelines for uniform operating limitations for high-speed craft.

— Guidelines on the layout of safety centers on passenger ships.

— Casualty analysis.

—Consideration of International Association of Classification Societies (IACS) unified interpretations.

Members of the public may attend these meetings up to the seating capacity of the room. To facilitate the building security process, those who plan to attend should call or send an e-mail two days before the meeting to Edward.J.LaRue@uscg.mil. Interested persons may seek information by writing: Mr. Edward J. LaRue, Jr., U.S. Coast Guard (CG-3PWN), Room 1407, 2100 2nd Street SW., Washington, DC 20593-0001 or by calling: (202) 372-1564.

Dated: May 18, 2007.
Michael E. Tousley,
Executive Secretary, Shipping Coordinating Committee, Department of State.

[FR Doc. E7-10255 Filed 5-25-07; 8:45 am]

BILLING CODE 4710-09-P